DEPARTMENT OF TRANSPORTATION

Federal Aviation Administration

Membership in the National Parks Overflights Advisory Group Aviation Rulemaking Committee

ACTION: Notice.

SUMMARY: The National Park Service (NPS) and the Federal Aviation Administration (FAA), as required by the National Parks Air Tour Management Act of 2000, established the National Parks Overflights Advisory Group (NPOAG) in March 2001. The NPOAG was formed to provide continuing advice and counsel with respect to commercial air tour operations over and near national parks. This notice informs the public of six vacancies (due to completion of membership on October 9, 2006), on the NPOAG (now the NPOAG Aviation Rulemaking Committee (ARC)) for members representing general aviation (one vacancy), commercial air tour operators (two vacancies), environmental concerns (two vacancies) and Native American tribes (one vacancy), and invites interested persons to apply to fill the vacancies.

DATES: Persons interested in serving on the NPOAG ARC should contact Mr. Brayer in writing and postmarked or e-mailed on or before May 8, 2006.

FOR FURTHER INFORMATION CONTACT: Barry Brayer, Executive Resource Staff, Federal Aviation Administration, Western Pacific Region Headquarters, 15000 Aviation Blvd., Hawthorne, CA 90250, telephone: (310) 725-3800, e-mail: Barry.Brayer@faa.gov, or Karen Trevino, National Park Service, Natural Sounds Program, 1201 Oakridge Dr., Suite 350, Ft. Collins, CO 80525, telephone (970) 225-3563, e-mail: Karen_Trevino@nps.gov.

SUPPLEMENTARY INFORMATION:

Background

The National Parks Air Tour Management Act of 2000 (the Act) was enacted on April 5, 2000, as Public Law 106-181. The Act required the establishment of the advisory group within 1 year after its enactment. The advisory group is comprised of a balanced group of representatives of general aviation, commercial air tour operations, environmental concerns, and Native American tribes. The Administrator of the FAA and the Director of NPS (or their designees) serve as ex officio members of the group. Representatives of the Administrator and Director serve alternating 1-year terms as chairman of the advisory group.

The advisory group provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.” Members of the advisory group may be allowed certain travel expenses as authorized by Section 5703 of Title 5, United States Code, for intermittent Government service. By FAA Order No. 1110-138, signed by the FAA Administrator on October 10, 2003, the NPOAG became an Aviation Rulemaking Committee (ARC). FAA Order No. 1110-138, was amended and became effective as FAA Order No. 1110-138A, on January 20, 2006.

The current NPOAG ARC is made up of one member representing general aviation, three members representing the air tour industry, four members representing environmental concerns, and two members representing Native American interests. Current members of the NPOAG ARC are: Heidi Williams, Aircraft Owners and Pilots Association; Alan Stephen, fixed-winged air tour operator representative; Elling Halvorson, Papillon Airways, Inc.; Richard Larew, Rainier Heli-Lift, Inc.; Chip Dennerlein, Siskiyou Project; Charles Maynard, formerly with Great Smoky Mountain National Park; Mark Peterson, National Audubon Society; Don Barger, National Parks Conservation Association; Rory Majenty, Hualapai Nation (Upon publication of this notice. See Changes in Membership below.), and Richard Deertrack, Taos Pueblo.

Public Participation in the NPOAG ARC

In order to retain balance within the NPOAG ARC, the FAA and NPS invite persons interested in serving on the ARC, to represent general aviation, commercial air tours, environmental concerns, or Native American tribes, to contact Mr. Barry Brayer (contact information is written above in FOR FURTHER INFORMATION CONTACT). Requests to serve on the ARC must be made to Mr. Brayer in writing and postmarked or e-mailed on or before May 8, 2006. The request should indicate whether or not you are a member of an association representing general aviation, commercial air tours, environmental concerns or Native American tribes or have another affiliation with issues relating to aircraft flights over national parks. The request should also state what expertise you would bring to the NPOAG ARC as related to environmental interests. The term of service for NPOAG ARC members is 3 years.

Changes in Membership

To maintain the balanced representation of the group, the FAA and the NPS recently published a notice in the Federal Register asking interested persons to apply to fill an earlier vacancy representing Native American tribes on the NPOAG. The person selected to fill this position is Rory Majenty, Hualapai Nation.

In consideration of the foregoing, the Federal Aviation Administration amends FAA Order No. 1110.138 as follows:

FAA Order No. 1110-138A, National Parks Overflights Advisory Group Aviation Rulemaking Committee

1. The authority citation for FAA Order No. 1110.138A continues to read as follows:

Purpose. This order constitutes the charter for the National Parks Overflights Advisory Group (NPOAG) Aviation Rulemaking Committee that is designated and established pursuant to the Administrator's authority under 49 U.S.C. 106(p)(5).

Sec. 2. Distribution [Amended]

2. Section 2 is amended by removing the words “Regulation and Certification” and adding, in their place, the words “Aviation Safety;” removing the words “Soundscape Program Center” and adding, in their place, the words “Natural Sounds Program Office.”

Sec. 6. Organization and Administration [Amended]

3. Section 6.a is amended by removing the words “The general membership of the NPOAG will be composed of a representative of general aviation (two members), commercial air tour operators (two members),” and adding, in their place, the words “The general membership of the NPOAG will be composed of a representative of general aviation (one member), commercial air tour operators (three members).”

4. Section 6.b is amended by removing the words “ The term of office will be staggered as follows: One general aviation representative, one commercial air tour operator representative, two environmental representatives and one Native American representative will serve for a period of two years from the date of this charter. The remaining representatives will serve a three-year term from the date of this charter. Thereafter, the term of each office for each member will be three years. Those individuals chosen for the initial two-year term will be selected either by volunteering for a two-year term, or by blind draw,” and adding, in their place, the words “Membership will continue with individuals already serving on the NPOAG, at the request of the Administrator and the Director. The term of office for each member will be three years. The three year membership begins on the original date of appointment.”

5. Section 6.c is amended by removing the words “The first members of the NPOAG are listed in Attachment A to this order.”

Sec. 8. Meetings [Amended]

6. Section 8 is amended by removing the words “The schedule for regular meetings will be set by the Chairperson after consideration of recommendations from the group” and adding, in their place, the words “The Chairperson will set the schedule for regular meetings, after consideration of recommendations from the group.”

7. Section 8 is also amended by removing the words “The meeting location will be set by the Chairperson after considering recommendations from the group” and adding, in their place, the words “The Chairperson will set the meeting location after considering recommendations from the group.”

Sec. Addendum to: The National Parks Overflights Advisory Group Aviation Rulemaking Advisory Committee Order

1110.38 [Removed]

General Aviation Representatives

David Kennedy—National Air Transportation Association.

Heidi Williams—Aircraft Owners and Pilots Association.

Commercial Air Tour Operators Representatives

Lash Larew—ERA Helicopter, USATA, HAI.

Alan Stephen—Grand Canyon Airlines.

Environmental Concerns Representatives

Steven Bosak—National Parks Conservation Association.

Chip Dennerlein—State of Alaska Fish and Game.

Susan Gunn—The Wilderness Society.

Charles Maynard—Friends of the Smokies.

Native American Tribes Representatives

Richard Deertrack—Native American Tribes.

Germaine White—CS and KT Tribes.

Issued in Washington, DC, on March 23, 2005.
Barry Brayer,
Manager, Executive Resource Staff, Western-Pacific Region.

[FR Doc. E6-4793 Filed 3-31-06; 8:45 am]

BILLING CODE 4910-13-P